DEPARTMENT OF TRANSPORTATION

Federal Highway Administration

Environmental Impact Statement; Suffolk County, New York

AGENCY: Federal Highway Administration (FHWA), Department of Transportation (DOT).

ACTION: Revised notice of intent (NOI).

SUMMARY: The FHWA is issuing this notice to advise the public that the NOI to prepare an Environmental Impact Statement (EIS) for a proposed construction project for the reconstruction of NY 112 from the Long Island Expressway, I-495 North Service Road to NY 25 in Suffolk County, New York is being rescinded. On December 19, 2002, the FHWA issued an NOI to advise the public that an EIS would be prepared for a proposed construction project for the Reconstruction of NY Route 112, from I-495 to Skips Road (Mill Road Connector), Suffolk County, New York (67 FR 77823).

FOR FURTHER INFORMATION CONTACT: New York State Department of Transportation, State Building, 250 Veterans Memorial Highway, Hauppauge, New York 11788, Telephone: (631) 952-6632; or Jonathan D. McDade, Division Administrator, Federal Highway Administration, New York Division, Leo W. O'Brien Federal Building, Suite 719, 11A Clinton Avenue, Albany, New York 12207, Telephone: (518) 431-4127.

SUPPLEMENTARY INFORMATION: The FHWA, in cooperation with the New York State Department of Transportation (NYSDOT) intended to prepare an EIS on the proposal to improve safety and traffic flow on NY 112 from I-495 to Skips Road. The scope of the project was to move the public through this area of the NY 112 corridor as safely and efficiently as possible. It is proposed to terminate the EIS for the following reasons:

• NYSDOT has delayed this project due to competing priorities and the inability to make a financial commitment to the 2012 estimated construction cost of $76M excluding the costs of right-of-way, construction inspection, and design.

• NYSDOT has implemented a system-wide preservation first strategy that will continue to impact the implementation of larger capital intensive projects such as the proposed reconstruction of NY112

• NYSDOT's adoption of both Smart Growth and Complete Streets makes the consideration of a significant capacity expansion of NY112 problematic in this area

• Since the original public hearing, the dedication of the 450 acre Overton Preserve (adjacent to NY 112) further precludes any substantial widening of NY 112 at the northerly end the project

• Studies performed to date indicate that a lower cost roadway section, not as wide as initially proposed, with resultant reduced environmental impact would produce an acceptable Level of Service throughout the corridor

• Reportable accidents have declined and continue to demonstrate a downward trend, further supporting the termination of the proposal to construct a four lane roadway section with continuous left turn lane or raised median as proposed in the draft EIS.

Termination of this EIS will enable NYSDOT to undertake smaller scoped transportation projects in the existing NY 112 corridor to address current transportation needs.

Jonathan D. McDade,
Division Administrator, Federal Highway Administration, Albany, New York.

[FR Doc. 2014-23881 Filed 10-6-14; 8:45 am]

BILLING CODE 4910-22-P